DEPARTMENT OF TRANSPORTATION (DOT)

Federal Aviation Administration

14 CFR Part 39

[Docket No. FAA-2004-18032; Directorate Identifier 2004-CE-15-AD; Amendment 39-13721; AD 2004-14-12]

RIN 2120-AA64

Airworthiness Directives; The New Piper Aircraft, Inc., Models PA-28-161, PA-28-181, PA-28R-201, PA-32R-301 (HP), PA-32R-301T, PA-32-301FT, PA-32-301XTC, PA-34-220T, PA-44-180, PA-46-350P, and PA-46-500TP Airplanes

AGENCY: Federal Aviation Administration (FAA), DOT.

ACTION: Final rule; request for comments.

SUMMARY: The FAA is adopting a new airworthiness directive (AD) for certain The New Piper Aircraft, Inc. (Piper), Models PA-28-161, PA-28-181, PA-28R-201, PA-32R-301 (HP), PA-32R-301T, PA-32-301FT, PA-32-301XTC, PA-34-220T, PA-44-180, PA-46-350P, and PA-46-500TP airplanes. This AD requires you to inspect the control wheel attaching hardware for proper installation, replace if required, add Loctite thread-locking compound to the screw installation, and install a retainer clip to the control wheel attachment. This AD is the result of inadequate control wheel attachment design. The screw used to attach the control wheel to the control column is too short in some installations, and the nut-plate does not have adequate locking features. In addition, the screw is installed from the bottom of the control wheel and will depart quickly after thread disengagement. We are issuing this AD to detect and correct inadequate control wheel attachment design features, which could result in loss of control of the ailerons and elevator. This failure could lead to loss of control of the aircraft.

DATES: This AD becomes effective on August 10, 2004.

As of August 10, 2004, the Director of the Federal Register approved the incorporation by reference of certain publications listed in the regulation.

We must receive any comments on this AD by September 14, 2004.

ADDRESSES: Use one of the following to submit comments on this AD:

• DOT Docket web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

You may get the service information identified in this AD from The New Piper Aircraft, Inc., 2926 Piper Drive, Vero Beach, Florida, 32960.

You may view the comments to this AD in the AD docket on the Internet at http://dms.dot.gov.

FOR FURTHER INFORMATION CONTACT: Samuel Belete, Aerospace Safety Engineer, FAA Atlanta Certfication Office, One Crown Center, 1895 Phoenix Boulevard, Suite 450, Atlanta, Georgia, 30349; telephone: (770) 703-6048; facsimile: (770) 703-6097.

SUPPLEMENTARY INFORMATION: What events have caused this AD? On July 7, 2003, a Piper PA-28-181 airplane crashed in the desert northeast of Phoenix, Arizona, after the pilot lost control of the ailerons and elevator. The left control wheel single MS24964-S59 screw backed out of its nut plate and caused the control wheel to spin freely on the control column. Further investigation revealed the screw was too short and the nut plate lacked proper locking features to prevent the screw from backing out and becoming disengaged. In addition, the screw was installed on the bottom of the control wheel allowing it to fall out once it became disengaged. An investigation of sample fleets after the incident revealed that a large portion of the sampled airplanes had similar problems.

The following airplanes have a similar type design and would be subject to these same conditions: The New Piper Aircraft, Inc., Models PA-28-161, PA-28-181, PA-28R-201, PA-32R-301 (HP), PA-32R-301T, PA-32-301FT, PA-32-301XTC, PA-34-220T, PA-44-180, PA-46-350P, and PA-46-500TP airplanes.

What is the potential impact if FAA took no action? Inadequate control wheel attaching hardware could result in loss of control of the ailerons and elevator. This failure could lead to loss of control of the airplane.

Is there service information that applies to this subject? Yes, The New Piper Aircraft, Inc. has issued Service Bulletin No. 1139A, dated April 9, 2004.

What are the provisions of this service information? The service bulletin includes procedures for:

—Inspecting the control wheel attachment screw and nut plate for proper installation;

—Replacing the screw and/or nut plate, if required;

—Applying Loctite thread-locking compound; and

—Installing a retainer clip under the control wheel shaft assembly.

FAA's Determination and Requirements of the AD

What has FAA decided? We have evaluated all pertinent information and identified an unsafe condition that is likely to exist or develop on other products of this same type design.

Since the unsafe condition described previously is likely to exist or develop on other Piper Models PA-28-161, PA-28-181, PA-28R-201, PA-32R-301 (HP), PA-32R-301T, PA-32-301FT, PA-32-301XTC, PA-34-220T, PA-44-180, PA-46-350P, and PA-46-500TP airplanes of the same type design, we are issuing this AD to detect and correct inadequate control wheel attaching hardware, which could result in loss of control of the ailerons and elevator. This failure could lead to loss of control of the airplane.

What does this AD require? This AD requires you to incorporate the actions in the previously-referenced service bulletin.

In preparing of this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2004-18032; Directorate Identifier 2004-CE-15-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. FAA-2004-18032; Directorate Identifier 2004-CE-15-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-14-12 The New Piper Aircraft, Inc.: Amendment 39-13721; Docket No. FAA-2004-18032; Directorate Identifier 2004-CE-15-AD.

When Does This AD Become Effective?

(a) This AD becomes effective on August 10, 2004.

Are Any Other ADs Affected by This Action?

(b) None.

What Airplanes Are Affected by This AD?

(c) This AD affects the following airplane models and serial numbers that are certificated in any category:

Models | Serial Nos.
(1) Group A:
(i) PA-28-161 Warrior III | 2842026 through 2842180.
(ii) PA-28-181 Archer III | 2843112 through 2843565.
(iii) PA-28R-201 Arrow | 2844014 through 2844099.
(iv) PA-32R-301 Saratoga II HP | 3246098 through 3246214.
(v) PA-32R-301T Saratoga II TC | 3257028 through 3257327.
(vi) PA-34-220T Seneca V | 3449042 through 3449292.
(vii) PA-44-180 Seminole | 4496020 through 4496173, and 4496175.
(viii) PA-46-350P Mirage | 4636132 through 4636344, and
(ix) PA-46-500TP Meridian | 4697001 through 4697162.
(2) Group B:
(i) PA-28-161 Warrior III | 2842181 through 2842203.
(ii) PA-28-181 Archer III | 2843566 through 2843588.
(iii) PA-28R-201 Arrow | 2844100 through 2844104.
(iv) PA-32R-301 Saratoga II HP | 3246215 through 3246219.
(v) PA-32R-301T Saratoga II TC | 3257328 through 3257340.
(vi) PA-32-301FT Piper 6X | 3232001 through 3232013.
(vii) PA-32-301XTC Piper 6XT | 3255001 through 3255014.
(viii) PA-34-220T Seneca V | 3449293 through 3449301.
(ix) PA-44-180 Seminole | 4496174 and 4496176 through 4496180.
(x) PA-46-350P Mirage | 4636345 through 4636348, and
(xi) PA-46-500TP Meridian | 4697163 through 4697174.

What Is the Unsafe Condition Presented in This AD?

(d) This AD is the result of inadequate control wheel attaching hardware. We are issuing this AD to detect and correct inadequate control wheel attachment design, which could result in loss of control of the ailerons and elevator. This failure could lead to loss of airplane.

What Must I Do to Address This Problem?

(e) To address this problem, you must do the following:

Actions | Compliance | Procedures
(1) For airplanes listed in Group A of paragraph (c)(1) of this AD: follow the instructions below, with the exception of airplanes listed in Group A that are already modified in accordance with The New Piper Aircraft, Inc., Service Bulletin No. 1139, dated, August 28, 2003 | Inspect within 25 hours Time-in-Service (TIS) after the effective date of this AD, August 10, 2004. Replace prior to further flight after the inspection | Follow Part I of The New Piper Aircraft, Inc., Service Bulletin No. 1139, dated April 9, 2004.
(i) Inspect the control wheel attachment screw for property thread engagement (minimum one thread showing past the end of the nut plate), and replace the crew if insufficient thread engagement is found.
(ii) Inspect the nut plate for sufficient locking characteristics (minimum one thread showing past the nut plate, when the screw is tightened by hand), and replace the nut plate if it is insufficient.
(iii) After the above inspections, reassemble the control wheel onto the control wheel shaft and apply Loctite thread-locking compound.
(2) For airplanes listed in Group A or Group B of paragraphs (c)(1) and (2) of this AD: install the retainer clip Part Number 104687-002 | Install the retainer clip within 100 hours TIS after the effective date of this AD, August 10, 2004 | Follow Part II of The New Piper Aircraft Inc., Service Bulletin No. 1139A, dated April 9, 2004.

May I Request an Alternative Method of Compliance?

(f) You may request a different method of compliance or a different compliance time for this AD by following the procedures in 14 CFR 39.19. Unless FAA authorizes otherwise, send your request to your principal inspector. The principal inspector may add comments and will send your request to the Manager, Atlanta Aircraft Certification Office, FAA. For information on any already approved alternative methods of compliance, contact Samuel Belete, Aerospace Safety Engineer, FAA Atlanta Certification Office, One Crown Center, 1895 Phoenix Boulevard, Suite 450, Atlanta, Georgia, 30349; telephone: (770) 703-6048; facsimile: (770) 703-6097.

Does This AD Incorporate Any Material by Reference?

(g) You must do the actions required by this AD following the instructions in The New Piper Aircraft, Inc., Service Bulletin No. 1139A, dated April 9, 2004. The Director of the Federal Register approved the incorporation by reference of this service bulletin in accordance with 5 U.S.C. 552(a) and 1 CFR part 51. You may get a copy from The New Piper Aircraft, Inc., 2926 Piper Drive, Vero Beach, Florida, 32960. You may review copies at the National Archives and Records Administration (NARA). For information on the availability of this material at NARA, call (202) 741-6030, or go to: http://www.archives.gov/federal_register/code_of_federal_regulations/ibr_locations.html. You may view the AD docket at the Docket Management Facility; U.S. Department of Transportation, 400 Seventh Street, SW., Nassif Building, Room PL-401, Washington, DC 20590-001.

Issued in Kansas City, Missouri, on June 29, 2004.
David R. Showers,
Acting Manager, Small Airplane Directorate, Aircraft Certification Service.

[FR Doc. 04-15507 Filed 7-8-04; 8:45 am]

BILLING CODE 4910-13-P